STATE JUSTICE INSTITUTE

Notice of Public Meeting; Board of Directors Meeting

Dates: Friday, February 28, 2003, 9 a.m.-5 p.m.

Place: State Justice Institute, 1650 King St. (Suite 600), Alexandria, VA.

Matters to be Considered: Consideration of proposals submitted for Institute funding and internal Institute business.

Portions Open to the Public: All portions other than personnel matters and Board committee meetings.

Portions Closed to the Public: Discussion of internal personnel matters and Board committee meetings.

FOR FURTHER INFORMATION CONTACT: David Tevelin, Executive Director, State Justice Institute, 1650 King Street, Suite 600, Alexandria, VA 22314, (703) 684-6100 x214.

David I. Tevelin,
Executive Director.

[FR Doc. 03-4298 Filed 2-19-03; 12:52 pm]

BILLING CODE 6820-SC-M